DEPARTMENT OF JUSTICE

Antitrust Division

Notice Pursuant to the National Cooperative Research and Production Act of 1993—The ATM Forum

Notice is hereby given that, on September 29, 2000, pursuant to Section 6(a) of the National Cooperative Research and Production Act of 1993, 15 U.S.C. § 4301 et seq. (“the Act”), The ATM Forum has filed written notifications simultaneously with the Attorney General and the Federal Trade Commission disclosing changes in its membership status. The notifications were filed for the purpose of extending the Act's provisions limiting the recovery of antitrust plaintiffs to actual damages under specified circumstances. Specifically, Ascom Transmission AG, Berne, SWITZERLAND; Catena Networks, Kanata, Ontario, CANADA; Coreon, Inc., Fremont, CA; Sedona Networks, Kanata, Ontario, CANADA; and Turin Networks, Petaluma, CA have been added as parties to this venture. The following auditing member has upgraded to a principal member: Ascom Transmission AG, Bern, SWITZERLAND. The following members have changed their names: Mitel Semiconductor to Mitel Corporation, Kanata, Ontario, CANADA; and Harris & Jeffries to Netplane Systems, Inc., Dedham, MA.

No other changes have been made in either the membership or planned activities of the group research project. Membership in this group research project remains open, and The ATM Forum intends to file additional written notification disclosing all changes in membership.

On April 19, 1993, The ATM Forum filed its original notification pursuant to Section 6(a) of the Act. The Department of Justice published a notice in the Federal Register pursuant to Section 6(b) of the Act on June 2, 1993 (58 FR 31415).

The last notification was filed with the Department on July 7, 2000. A notice was published in the Federal Register pursuant to Section 6(b) of the Act on August 11, 2000 (65 FR 49262).

Constance K. Robinson,
Director of Operations, Antitrust Division.

[FR Doc. 00-29984 Filed 11-22-00; 8:45 am]

BILLING CODE 4410-11-M